DEPARTMENT OF HEALTH AND HUMAN SERVICES

Agency for Toxic Substances and Disease Registry

[Docket No. ATSDR-2024-0004]

Availability of Five Draft Toxicological Profiles; Extension of Comment Period

AGENCY: Agency for Toxic Substances and Disease Registry (ATSDR), Department of Health and Human Services (HHS).

ACTION: Extension of comment period.

SUMMARY: On November 8, 2024, the Agency for Toxic Substances and Disease Registry (ATSDR), within the Department of Health and Human Services (HHS), announced the opening of a docket to obtain comments on drafts of five updated toxicological profiles. This notice extends the comment period to February 13, 2025.

DATES: The comment period for the notice published November 8, 2024, at 89 FR 88772 is extended. Written comments must be received on or before February 13, 2025.

ADDRESSES: You may submit comments, identified by Docket No. ATSDR-2024-0004 by either of the methods listed below. Do not submit comments by email. ATSDR does not accept comments by email.

• Federal eRulemaking Portal: http://www.regulations.gov. Follow the instructions for submitting comments.

• Mail: Agency for Toxic Substances and Disease Registry, Office of Innovation and Analytics, 4770 Buford Highway, Mail Stop S106-5, Atlanta, GA 30341-3717. Attn: Docket No. ATSDR-2024-0004.

Instructions: All submissions received must include the agency name and Docket Number. All relevant comments received will be posted without change to http://www.regulations.gov, including any personal information provided. For access to the docket to read background documents or comments received, go to http://www.regulations.gov.

FOR FURTHER INFORMATION CONTACT: Farhana Rahman, Agency for Toxic Substances and Disease Registry, Office of Innovation and Analytics, 4770 Buford Highway, Mail Stop S106-5, Atlanta, GA 30341-3717; Email: ATSDRToxProfileFRNs@cdc.gov; Phone: 1-800-232-4636.

SUPPLEMENTARY INFORMATION: In the “Availability of Five Draft Toxicological Profiles” notice that appeared in the November 8, 2024 Federal Register (89 FR 88772), we solicited public comments on drafts of five updated toxicological profiles: benzene, carbon disulfide, cyanide, thallium, and chlorinated dibenzo-p-dioxins. This action is necessary as this is the opportunity for members of the public and organizations to submit comments on drafts of the profiles. The intended effect of this action is to ensure that the public can note any pertinent additional information or reports on studies about the health effects caused by exposure to the substances covered in these five profiles for review.

We have received requests from interested parties to extend the comment period. Therefore, we are extending the comment period for an additional seven days.

Donata Green,
Associate Director, Office of Policy, Planning and Partnerships, Agency for Toxic Substances and Disease Registry.

[FR Doc. 2025-00827 Filed 1-14-25; 8:45 am]

BILLING CODE 4163-70-P